DEPARTMENT OF THE TREASURY

Internal Revenue Service

Meeting of the Electronic Tax Administration Advisory Committee

AGENCY: Internal Revenue Service (IRS), Treasury.

ACTION: Notice of meeting.

SUMMARY: The Electronic Tax Administration Advisory Committee (ETAAC) will hold a public meeting via telephone conference line on Wednesday, March 20, 2024.

FOR FURTHER INFORMATION CONTACT: Mr. Alec Johnston, Office of National Public Liaison, at (202) 317-4299, or send an email to publicliaison@irs.gov

SUPPLEMENTARY INFORMATION: Notice is hereby given pursuant to 5 U.S.C. 10(a)(2) of the Federal Advisory Committee Act, that a public meeting via conference call of the ETAAC will be held on Wednesday, March 20, 2024, at 12:30 p.m. EDT. The purpose of the ETAAC is to provide continuing advice regarding the development and implementation of the IRS organizational strategy for electronic tax administration. ETAAC is an organized public forum for discussion of electronic tax administration issues such as prevention of identity theft and refund fraud. It supports the overriding goal that paperless filing should be the preferred and most convenient method of filing tax and information returns. ETAAC members convey the public's perceptions of IRS electronic tax administration activities, offer constructive observations about current or proposed policies, programs, and procedures, and suggest improvements. Please call or email Alec Johnston to confirm your attendance. Mr. Johnston can be reached at 202-317-4299 or PublicLiaison@irs.gov . Should you wish the ETAAC to consider a written statement, please call 202-317-4299 or email: PublicLiaison@irs.gov.

Dated: February 6, 2024.
John A. Lipold,
Designated Federal Official, Office of National Public Liaison, Internal Revenue Service.

[FR Doc. 2024-02726 Filed 2-8-24; 8:45 am]

BILLING CODE 4830-01-P